DEPARTMENT OF AGRICULTURE

Office of the Secretary

[Docket No. 03-001-4]

Declaration of Extraordinary Emergency in New Mexico and Texas Because of Exotic Newcastle Disease

Exotic Newcastle disease (END) has been confirmed in the State of Texas, near the Texas-New Mexico border. The disease has been confirmed in backyard poultry, which are raised on private premises for hobby, exhibition, and personal consumption. Previously, END had been confirmed in the States of Arizona, California, and Nevada. The Secretary of Agriculture signed a declaration of extraordinary emergency with respect to END in California on January 6, 2003 (see 68 FR 1432, Docket No. 03-001-1, published January 10, 2003), a second declaration of extraordinary emergency with respect to END in Nevada on January 17, 2003 (see 68 FR 3507, Docket No. 03-001-2, published January 24, 2003), and a third declaration of extraordinary emergency with respect to END in Arizona on February 7, 2003 (see 68 FR 7338, Docket No. 03-001-3, published February 13, 2003).

END is a contagious and fatal viral disease affecting domestic, wild, and caged poultry and birds. It is one of the most infectious diseases of poultry in the world, and is so virulent that many birds die without showing any clinical signs. A death rate of almost 100 percent can occur in unvaccinated poultry flocks. END can infect and cause death even in vaccinated poultry. This disease in poultry and birds is characterized by respiratory signs accompanied by nervous manifestations, gastrointestinal lesions, and swelling of the head.

END is spread primarily through direct contact between healthy birds or poultry and the bodily discharges of infected birds or poultry. Within an infected flock, END is transmitted by direct contact, contaminated feeding and watering equipment, and aerosols produced by coughing, gasping, and other respiratory disturbances. Dissemination between flocks over long distances is often due to movement of contaminated equipment and service personnel, such as vaccination crews. Movement of carrier birds and those in an incubating stage accounts for most of the outbreaks in the pet bird industry.

The existence of END in Texas near the Texas-New Mexico border represents a threat to the U.S. poultry and bird industries. It constitutes a real danger to the national economy and a potential serious burden on interstate and foreign commerce. The United States Department of Agriculture (the Department) has reviewed the measures being taken by New Mexico and Texas to control and eradicate END and has consulted with the appropriate State Government and Indian tribal officials in New Mexico and Texas. Based on such review and consultation, the Department has determined that the measures being taken by the States are inadequate to control or eradicate END. Therefore, the Department has determined that an extraordinary emergency exists in New Mexico and Texas because of END.

This declaration of extraordinary emergency authorizes the Secretary to (1) hold, seize, treat, apply other remedial actions to, destroy (including preventative slaughter), or otherwise dispose of, any animal, article, facility, or means of conveyance if the Secretary determines the action is necessary to prevent the dissemination of END and (2) prohibit or restrict the movement or use within the States of New Mexico and Texas, or any portion of the States of New Mexico and Texas, of any animal or article, means of conveyance, or facility if the Secretary determines that the prohibition or restriction is necessary to prevent the dissemination of END. The appropriate State Government and Indian tribal officials in New Mexico and Texas have been informed of these facts.

Effective Date: declaration of extraordinary emergency shall become effective April 10, 2003.

Ann M. Veneman,
Secretary of Agriculture.

[FR Doc. 03-9321 Filed 4-15-03; 8:45 am]

BILLING CODE 3410-34-P